DEPARTMENT OF DEFENSE

Department of the Air Force

[Docket ID USAF-2008-0043]

Privacy Act of 1974; System of Records

AGENCY: Department of the Air Force, DoD.

ACTION: Notice to Alter a System of Records.

SUMMARY: The Department of the Air Force is proposing to alter a system of records notice in its existing inventory of record systems subject to the Privacy Act of 1974, (5 U.S.C. 552a), as amended.

DATES: This proposed action will be effective without further notice on January 7, 2009 unless comments are received which result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974 (5 U.S.C. 552a), as amended, have been published in the Federal Register and are available from the address above.

The proposed system report, as required by 5 U.S.C. 552a(r) of the Privacy Act of 1974, as amended, was submitted on November 26, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 2, 2008.
Morgan E. Frazier,
Alternate OSD Federal Register Liaison Officer, Department of Defense.

F051 AF JA F

System name:

Courts Martial and Article 15 Records (November 23, 2005, 70 FR 70790).

Changes:

* * * * *

System name:

Delete entry and replace with “Courts-martial and Article 15 Records”.

System location:

Delete entry and replace with “Primary Location: The Judge Advocate General, Headquarters United States Air Force, 1420 Air Force Pentagon, Washington, DC 20330-1420.

Secondary Locations:

Headquarters Air Force Personnel Center, 550 C Street W, Randolph Air Force Base, TX 78150-4746.

Washington National Records Center, 4205 Suitland Road, Suitland, MD 20746-8001.

Headquarters of Air Force major commands and all levels down to and including Air Force installations. Official mailing addresses are published as an appendix to the Air Force's compilation of systems of records notices.”

Categories of individuals covered by the system:

Delete entry and replace with “Individuals subject to the Uniform Code of Military Justice (10 U.S.C. 802, Art. 2. Persons subject).”

Categories of records in the system:

Delete entry and replace with “Individual's name, Social Security Number (SSN), records of trial by courts-martial; records of Article 15 punishment; discharge proceedings; documents received or prepared in anticipation of administrative nonjudicial and judicial proceedings; witness statements; police reports; other reports and records from local, state, or federal agencies.”

Authority for maintenance of the system:

Delete entry and replace with “10 U.S.C. 8013, Secretary of the Air Force; 10 U.S.C. 8037, Judge Advocate General; 10 U.S.C. 815, Art. 15 Commanding officer's nonjudicial punishment; 10 U.S.C. 854, Record of Trial; 10 U.S.C. 938, Art. 138. Complaints of wrongs; Air Force Instruction 51-201, Administration of Military Justice; Air Force Instruction 51-202, Law—Nonjudicial Punishment; and E.O. 9397 (SSN).”

Purpose(s):

Delete entry and replace with “Records are used to investigate, adjudicate and prosecute adverse action cases, Article 138 complaints, and for other investigations, as necessary. For review by appellate and other authorities; for use for official purposes by Department of Defense personnel. Also used as source documents for collection of statistical information and used to manage cases and case processing.”

* * * * *

Policies and practices for storing, retrieving, accessing, retaining, and disposing of records in the system:

Storage:

Delete entry and replace with “Paper records in file folders and electronic storage media.”

Retrievability:

Delete entry and replace with “Individual's name, Social Security Number (SSN) or Military Service Number.”

Safeguards:

Delete entry and replace with “Records are accessed by person(s) responsible for servicing the record system in performance of their official duties and by authorized personnel who are properly screened and cleared for need-to-know. Records are stored in locked rooms and cabinets. Those in computer storage devices are protected by computer system software. Computers must be accessed with a password.”

Retention and disposal:

Delete entry and replace with “Courts-martial records are retained in office files for 2 years following date of final action and then retired as permanent.

General and special courts-martial records are retired to the Washington National Records Center, Washington, DC 20409-0002.

Summary courts-martial and Article 15 records are retained in office files for 3 years or until no longer needed, whichever is later, and then retired as permanent.

Summary courts-martial and Article 15 records are forwarded to the Air Force Personnel Center for filing in the individual's permanent master personnel record.

Records received or prepared in anticipation of judicial and non-judicial Uniform Code of Military Justice or discharge proceedings, and data maintained on Judge Advocate's computer storage are maintained until action is final or no longer needed.

Paper records are disposed of by tearing into pieces, shredding, pulping, macerating or burning. Computer records are destroyed by deleting, erasing, degaussing, or by overwriting.”

* * * * *

F051 AF JA F

System name:

Courts-martial and Article 15 Records.

System location:

Primary Location:

The Judge Advocate General, Headquarters United States Air Force, 1420 Air Force Pentagon, Washington, DC 20330-1420.

Secondary Locations:

Headquarters Air Force Personnel Center, 550 C Street W, Randolph Air Force Base, TX 78150-4746.

Washington National Records Center, 4205 Suitland Road, Suitland, MD 20746-8001.

Headquarters of Air Force major commands and all levels down to and including Air Force installations. Official mailing addresses are published as an appendix to the Air Force's compilation of systems of records notices.

Categories of individuals covered by the system:

Individuals subject to the Uniform Code of Military Justice (10 U.S.C. 802, Art. 2. Persons subject).

Categories of records in the system:

Individual's name, Social Security Number (SSN), records of trial by courts-martial; records of Article 15 punishment; discharge proceedings; documents received or prepared in anticipation of administrative non-judicial and judicial proceedings; witness statements; police reports; other reports and records from local, state, or federal agencies.

Authority for maintenance of the system:

10 U.S.C. 8013, Secretary of the Air Force; 10 U.S.C. 8037, Judge Advocate General; 10 U.S.C. 815, Art. 15 Commanding officer's non judicial punishment; 10 U.S.C. 854, Record of Trial; 10 U.S.C. 938, Art. 138. Complaints of wrongs; Air Force Instruction 51-201, Administration of Military Justice; Air Force Instruction 51-202, Law—Nonjudicial Punishment; and E.O. 9397 (SSN).

Purpose(s):

Records are used to investigate, adjudicate and prosecute adverse action cases, Article 138 complaints, and for other investigations, as necessary. For review by appellate and other authorities; for use for official purposes by Department of Defense personnel. Also used as source documents for collection of statistical information and used to manage cases and case processing.

Routine uses of records maintained in the system, including categories of users and the purposes of such uses:

In addition to those disclosures generally permitted under 5 U.S.C. 552a(b) of the Privacy Act, these records, or information contained therein, may specifically be disclosed outside the DoD as a routine use pursuant to 5 U.S.C. 552a(b)(3) as follows:

Records from this system may be disclosed to other federal agencies and federal courts for official purposes, to include a determination of rights and entitlements of individuals concerned or the government.

The records may also be disclosed to a governmental board or agency or health care professional society or organization if such record or document is needed to perform licensing or professional standards monitoring; to medical institutions or organizations for official purposes, wherein the individual has applied for or been granted authority or employment to provide health care services if such record or document is needed to assess the professional qualifications of such member.

To victims and witnesses of a crime for the purposes of providing information consistent with the requirements of the Victim and Witness Assistance Program and the Victims' Rights and Restitution Act of 1990.

The DoD ‘Blanket Routine Uses' set forth at the beginning of the Air Force's compilation of systems of records notices apply to this system.

Policies and practices for storing, retrieving, accessing, retaining, and disposing of records in the system:

Storage:

Paper records in file folders and electronic storage media.

Retrievability:

Individual's name, Social Security Number (SSN) or Military Service Number.

Safeguards:

Records are accessed by person(s) responsible for servicing the record system in performance of their official duties and by authorized personnel who are properly screened and cleared for need-to-know. Records are stored in locked rooms and cabinets. Those in computer storage devices are protected by computer system software. Computers must be accessed with a password.

Retention and disposal:

Courts-martial records are retained in office files for 2 years following date of final action and then retired as permanent.

General and special courts-martial records are retired to the Washington National Records Center, Washington, DC 20409-0002.

Summary courts-martial and Article 15 records are retained in office files for 3 years or until no longer needed, whichever is later, and then retired as permanent.

Summary courts-martial and Article 15 records are forwarded to the Air Force Personnel Center for filing in the individual's permanent master personnel record.

Records received or prepared in anticipation of judicial and non-judicial Uniform Code of Military Justice or discharge proceedings, and data maintained on Judge Advocate's computer storage are maintained until action is final or no longer needed.

Paper records are disposed of by tearing into pieces, shredding, pulping, macerating or burning. Computer records are destroyed by deleting, erasing, degaussing, or by overwriting.

System manager(s) and address:

The Judge Advocate General, Headquarters United States Air Force, 1420 Air Force Pentagon, Washington, DC 20330-1420.

Notification procedure:

Individuals seeking to determine whether information about themselves is contained in this system of records should address written inquiries to The Judge Advocate General, Headquarters United States Air Force, 1420 Air Force Pentagon, Washington, DC 20330-1420.

Individuals should provide their full name, Social Security Number (SSN), Unit of assignment, date of trial and type of court, date of discharge action, and date of punishment imposed in the case of Article 15 action may also be necessary, as appropriate.

Record access procedures:

Individuals seeking to access records about themselves contained in this system of records should address written inquiries to The Judge Advocate General, Headquarters United States Air Force, 1420 Air Force Pentagon, Washington, DC 20330-1420.

Individuals should provide their full name, Social Security Number (SSN), Unit of assignment, date of trial and type of court, date of discharge action, and date of punishment imposed in the case of Article 15 action may also be necessary, as appropriate.

Contesting record procedures:

The Air Force rules for accessing records and for contesting contents and appealing initial agency determinations are published in Air Force Instruction 33-332; 32 CFR part 806b; or may be obtained from the system manager.

Record source categories:

Information from almost any source can be included if it is relevant and material to the proceedings. These include, but are not limited to witness statements; police reports; reports from local, state, and federal agencies; information submitted by an individual making an Article 138 complaint; Inspector General investigations; and commander directed inquiries.

Exemptions claimed for the system:

Portions of this system may be exempt pursuant to 5 U.S.C. 552a(j)(2) if the information is compiled and maintained by a component of the agency that performs as its principal function any activity pertaining to the enforcement of criminal laws from the following subsections of 5 U.S.C. 552a(c)(3), (c)(4), (d), (e)(1), (e)(2), (e)(3), (e)(4)(G), (H) and (I), (e)(5), (e)(8), (f), and (g).

Records compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information except to the extent that disclosure would reveal the identify of a confidential source from the following subsections of 5 U.S.C. 552a(c)(3), (d), (e)(1), (e)(4)(G), (H) and (I), and (f). NOTE: When claimed, this exemption allows limited protection of investigative reports maintained in a system of records used in personnel or administrative actions.

An exemption rule for this record system has been promulgated in accordance with the requirements of 5 U.S.C. 553(b)(1), (2), and (3), (c) and (e) and published in 32 CFR part 806b. For additional information contact the system manager.

[FR Doc. E8-28936 Filed 12-5-08; 8:45 am]

BILLING CODE 5001-06-P